LEGAL SERVICES CORPORATION

Notice of Availability of Calendar Year 2026 Competitive Grant Funds for the Technology Initiative Grant Program

AGENCY: Legal Services Corporation.

ACTION: Notice.

SUMMARY: The Legal Services Corporation (LSC) issues this Notice describing the conditions for submitting pre-applications and applications for 2026 Technology Initiative Grants (TIGs).

DATES: Pre-Applications for the General TIG and Sustainability, Enhancement, and Adoption Grants must be received by 11:59 p.m. Eastern Time on Friday, April 10, 2026.

Applications:

1. Technology Improvement Project applications must be received by 11:59 p.m. Eastern Time on Friday, May 22, 2026.

2. General TIG; Sustainability, Enhancement, and Adoption Grants; and TIG Planning Grant applications must be received by 11:59 p.m. Eastern Time on Tuesday, June 30, 2026.

ADDRESSES: All pre-applications and applications must be submitted electronically via LSC's unified grants management system, GrantEase, at http://lscgrants.lsc.gov.

FOR FURTHER INFORMATION CONTACT: Eric Mathison, TIG Special Grants Coordinator, Office of Program Performance, Legal Services Corporation, 1825 I Street NW, Washington, DC 20006; (202) 295-1535 or techgrants@lsc.gov.

SUPPLEMENTARY INFORMATION:

I. Introduction

Since 2000, Congress has provided an annual appropriation to LSC to award special funding for client self-help and information technology projects. LSC's TIG program funds technology tools to increase the quantity and quality of legal services available to eligible persons. TIG-funded projects develop, test, and replicate innovative technologies that help LSC grantees and state justice communities to improve low-income persons' access to high-quality legal assistance through integrated and well-managed technology systems. The TIG program also supports the effective use of technology at LSC-funded organizations through targeted assessment grants focused on improvements to technology systems and information security.

II. Funding Opportunity Information

A. Eligible Applicants

To be eligible for Technology Initiative Grants, applicants must be current grantees of LSC Basic Field-General, Basic Field-Migrant, or Basic Field-Native American grants. In addition, applicants must receive basic field funding of at least a one-year term, be up to date on reporting on any existing TIG-funded projects, and not have had a previous TIG terminated in the past three years for reporting or other performance issues.

B. Technology Initiative Grant Purpose and Key Goals

Since LSC's TIG program was established in 2000, LSC has made over 955 grants totaling over $95 million. The TIG program encourages organizations to use technology in innovative ways to:

1. Effectively and efficiently provide high-quality legal assistance to low-income persons and to promote access to the judicial system through legal information, advice, and representation.

2. Improve service delivery, quality of legal work, and management and administration of grantees.

3. Develop, test, and replicate innovative strategies that can enable grantees and state justice communities to improve clients' access to high-quality legal assistance.

C. Funding Categories

1. General Technology Initiative Grants

Projects in this category (1) implement new or innovative approaches for using technology in legal services delivery; (2) enhance the effectiveness and efficiency of existing technologies so that they may be better used to increase the quality and quantity of services to clients; or (3) replicate, adapt, or provide added value to the work of prior technology projects. This includes implementing or improving proven methodologies and technologies from previous TIG projects as well as replicating effective technologies developed by non-LSC-funded legal aid organizations and other sectors. Applicants seeking continuation funding for existing or recently completed TIG projects should consider applying under the Sustainability, Enhancement, and Adoption (SEA) Grants category discussed below.

General TIG projects require pre-applications. The pre-application deadline is April 10, 2026 and the full application deadline is June 30, 2026.

2. Technology Improvement Projects (TIPS) and Intake TIPS

LSC recognizes that grantees need sufficient technology infrastructure in place before they can take on a more innovative TIG project. The TIP grant category is for applicants who need to improve their basic technology infrastructure. The maximum funding amount per grant for this category is $35,000.

In 2026, TIP grants are available for Technology Assessments, Business Process Analysis (BPA) projects, and other discrete technology improvement efforts, such as usability/UX research or assessments, system performance audits, digital accessibility evaluations, technology skills assessments, and other efforts that will improve the technology infrastructure of the organization.

New in 2026: Intake Technology Improvement Projects

The Intake Technology Improvement Projects subcategory is a newly established TIP funding track, designed with a two-phase structure:

• Phase 1: Business Process Assessment, funded as a TIP grant for up to $35,000; and

• Phase 2: Implementation and Improvement, with total funding for both phases capped at $100,000.

Phase 2 funding is contingent on LSC approval of an acceptable implementation plan and budget and may be awarded only for high-priority, technology-related components of the intake improvement project.

The 2026 TIP Application and related guidance will include targeted questions to identify the specific area of focus for each TIP as well as the requirements for the Intake BPA/Enhancement sub-category of TIP grants.

The Technology Improvement Project (TIP) category does not require a pre-application. LSC will open the application system and provide guidance for this project category by April 1, 2026. The application deadline for Technology Improvement Projects is May 22, 2026.

3. Sustainability, Enhancement, and Adoption Grants

Sustainability, Enhancement, and Adoption (SEA) Grants allow successful TIG grantees to build upon a specific project and its technologies, ensure that their TIG-funded work is effectively integrated into the service delivery system, and complete the project activities necessary to ensure the initiative's long-term success.

SEA Grants are available to current TIG recipients and to recipients of recently completed TIG projects. Applicants seeking to enhance a non-TIG initiative or replicate another organization's project should apply under the General category. LSC encourages all prospective applicants to meet with their regional TIG program manager to discuss potential SEA grant applications. Applicants should be able to clearly demonstrate that their current or prior TIG project was successful and that they have a reasonable plan for building on that success.

SEA Grants require a pre-application. The pre-application deadline is April 10, 2026, and the full application deadline is June 30, 2026.

4. TIG Planning Grants

New in 2026, the TIG Planning Grant category provides LSC grantees with dedicated time and resources to thoughtfully define and scope particularly innovative, complex, or transformative technology projects before applying for a traditional General TIG. This grant category will follow a two-phase structure.

Phase 1 of a Planning Grant should focus on clearly defining the project and completing core planning activities, including conducting a project needs assessment; gathering functional and technical requirements; issuing Requests for Information (RFIs) to research potential vendors and obtain realistic cost estimates; developing a project roadmap; and preparating a detailed implementation plan and budget, along with any other necessary planning tasks. The Phase 1 grant term may be either six or 12 months, and LSC will fund this phase at a up to $75,000.

Following completion of Phase 1, grantees may request additional TIG funding to support Phase 2, the Implementation phase. LSC will open a special TIG application opportunity for grantees that have successfully completed Phase 1 of a Planning Grant. Approval of a Phase 1 Grant does not guarantee funding for Phase 2.

The initial phase of the Planning Grant category does not require a pre-application. LSC will open the application system and issue guidance for this category by May 11, 2026. The application deadline for TIG Planning Grant proposals is June 30, 2026.

D. Available Funds for 2026 Grants

The amount of funds available for TIG awards for FY 2026 is $4,750,000. LSC will make TIG award decisions by early Fall 2026.

E. Grant Terms

TIG awards have grant terms between 6 and 36 months, depending on the grant category.

• General Technology Initiative Grants: 12, 18, 24, or 36 month grant terms.

• Technology Improvement Projects: 12 or 18 month grant terms.

• Sustainability, Enhancement, and Adoption Grants: 24 month grant term.

• TIG Planning Grants: 6 or 12 month grant term.

The grant terms for TIG General, Sustainability, Enhancement, and Adoption (SEA), and TIG Planning Grants will begin on January 1, 2027. Technology Improvement Projects (TIP) will begin on October 1, 2026. Alternate start dates may be available.

III. Grant Application Process

A. Technology Initiative Grant Application Process

The TIG application process is administered in LSC's unified grants management system, GrantEase (http://lscgrants.lsc.gov). Applicants in the General TIG and SEA categories must first submit a pre-application to LSC in GrantEase by April 10, 2026, at 11:59 p.m. ET, to be considered for a grant. After review by LSC staff, LSC's president decides which applicants will be asked to submit a full application. Applicants will be notified by mid-May 2026 if they are approved to move forward with a full application. Full applications are due to LSC in the GrantEase system by June 30, 2026, at 11:59 p.m. ET. Once received, full applications will undergo a rigorous review by LSC staff. LSC's president makes the final decisions on funding for the TIG program.

Applicants in the Technology Improvement Project (TIP) and TIG Planning Grant categories are not required to submit pre-applications. LSC will launch the online application system for TIP by April 1, 2026, with submissions due by May 22, 2026, at 11:59 p.m. ET. The Planning Grant application system will open by May 11, 2026, and applications will be due by June 30, 2026, at 11:59 p.m. ET. Applications in both categories will undergo a similar rigorous staff review process, with final funding decisions made by LSC's President.

B. Late or Incomplete Applications

LSC may consider a request to submit a pre-application after the deadline, but only if the applicant has submitted an email to techgrants@lsc.gov explaining the circumstances that caused the delay prior to the pre-application deadline. Communication with LSC staff, including assigned program liaisons, is not a substitute for sending a formal request and explanation to techgrants@lsc.gov.

At its discretion, LSC may consider incomplete applications. LSC will determine whether it will consider late or incomplete applications on a case-by-case basis.

C. Multiple Pre-Applications

Applicants may submit multiple pre-applications. If applying for multiple grants that require pre-applications, applicants should submit separate pre-applications for each funding request.

Applicants may only submit one application per year in the Technology Improvement Project (TIP) grant category.

D. Additional Information and Guidelines

Additional guidance and instructions on the pre-application and application processes for Technology Initiative Grants will be available and regularly updated at https://www.lsc.gov/grants/technology-initiative-grant-program.

(Authority: 42 U.S.C. 2996g(e).)

Dated: February 19, 2026.
Stefanie Davis,
Deputy General Counsel, Legal Services Corporation.

[FR Doc. 2026-03618 Filed 2-23-26; 8:45 am]

BILLING CODE 7050-01-P